OFFICE OF THE UNITED STATES TRADE REPRESENTATIVE

Technical Corrections to the Harmonized Tariff Schedule of the United States

AGENCY: Office of the United States Trade Representative.

ACTION: Notice.

SUMMARY: The United States Trade Representative (USTR) is making technical corrections to the Harmonized Tariff Schedule of the United States (HTS) as set forth in the annex to this notice, pursuant to authority delegated to the USTR in Presidential Proclamation 6969 of January 27, 1997 (62 FR 4415). These modifications correct several inadvertent errors and omissions in various Presidential Proclamations, as set forth herein, so that the intended tariff treatment is provided.

EFFECTIVE DATE: As set forth in the Annex to this notice.

FOR FURTHER INFORMATION CONTACT: Katharine J. Mueller, Assistant General Counsel, (202) 395-3581.

SUPPLEMENTARY INFORMATION: Pursuant to various statutes implementing trade agreements and to section 604 of the Trade At of 1974, as amended (19 U.S.C. 2483), the President issued proclamations in order to reflect in the HTS the substance of those agreements and actions taken pursuant to such statutes. This notice corrects several inadvertent errors and omissions in the following Presidential Proclamations, so that the intended tariff treatment is provided: (1) Presidential Proclamation 6641 of December 15, 1993, which implemented the tariff treatment provided for in the North American Free Trade Agreement (“NAFTA”); (2) Presidential Proclamation 6763 of December 23, 1994, which implemented with respect to the United States the trade agreements resulting from the Uruguay Round of multilateral trade negotiations; (3) Presidential Proclamation 6857 of December 11, 1995, which affected certain NAFTA tariff classification rules; (4) Presidential Proclamation 7512 of December 7, 2001, implementing the Agreement between the United States of America and the Hashemite Kingdom of Jordan on the Establishment of a Free Trade Area; (5) Presidential Proclamation 7515 of December 18, 2001, modifying various provisions of the HTS in order to conform it to amendments made to the International Convention on the Harmonized Commodity Description and Coding System; (6) Presidential Proclamation 7616 of October 31, 2002, implementing the preferential tariff treatment authorized by the Andean Trade Promotion and Drug Eradication Act (the “ATPDEA”); and (7) in Presidential Proclamation 7626 of November 13, 2002, implementing modifications in the preferential tariff treatment provided under provisions of the Caribbean Basin Economic Recovery Act, pursuant to the United States-Caribbean Basin Trade Partnership Act, and of the African Growth and Opportunity Act.

Proclamation 6969 authorized the USTR to exercise the authority provided to the President under section 604 of the Trade Act of 1974 (19 U.S.C. 2483) to embody rectifications, technical or conforming changes, and similar modifications in the HTS. Under the authority vested in the USTR by Proclamation 6969, the rectifications, technical and conforming changes, and similar modifications set forth in the annex to this notice shall be embodied in the HTS with respect to goods entered, or withdrawn from warehouse for consumption, on or after the dates specified for the respective actions set forth in such annex.

Robert B. Zoellick,
United States Trade Representative.

Annex

Effective with respect to goods entered, or withdrawn from warehouse for consumption, on or after the dates indicated in each annex section below, the Harmonized Tariff Schedule of the United States (HTS) is hereby modified as follows:

Section A. Effective with respect to goods entered, or withdrawn from warehouse for consumption, on or after January 1, 1995:

1. The article description of subheading 2922.50.07 is modified by inserting after “acid” the language “(d(-)-p-Hydroxyphenylglycine)”.

2. Subheading 2922.50.11 is modified by deleting the article description and by inserting in lieu thereof the following:

“Salts of d(-)-p-Hydroxyphenylglycine ((R)-a-Amino-4-hydroxybenzeneacetic acid)” and by deleting from the Rates of Duty 1-Special subcolumn the symbol ”K,”.

3. Subheading 9904.04.96 is modified by deleting “1904.90.47” and by inserting in lieu thereof “1901.90.47”.

4. Subheading 9904.17.44 is modified by deleting “1902.20.60” and by inserting in lieu thereof “1901.20.60”.

Section B. Effective with respect to goods entered, or withdrawn from warehouse for consumption, on or after January 1, 1996, general note 12(t) is modified by inserting in numerical sequence the following new tariff classification rule for chapter 84:

“213. A change to tariff item 8473.30.30 from any other tariff item.”

Section C. Effective with respect to articles entered, or withdrawn from warehouse for consumption, on or after January 1, 2000, additional U.S. note 16 to chapter 4 is modified by deleting “25,810,000” set out opposite “EC 15” in such note and by inserting “25,811,000” in lieu thereof.

Section D. Effective with respect to goods entered, or withdrawn from warehouse for consumption, on or after October 2, 2000:

1. U.S. note 2(d) to subchapter XX of chapter 98 is modified by deleting the phrase “in the preceding 1-year period” and by inserting in lieu thereof “entered during the preceding 12-month period”.

2. The article description of subheading 9820.11.18 is modified by deleting the phrase “(except for t-shirts, other than underwear, classifiable in subheadings 6109.10.00 and 6109.90.10 and described in subheading 9820.11.12)”.

Section E. Effective with respect to goods of Jordan:

1. For subheading 6307.90.98, the Rates of Duty 1-Special subcolumn is modified by inserting, during the period from January 10, 2002, through December 31, 2002, inclusive, the rate of duty of “3.5%” followed by the symbol “(JO)”; such duty rate is deleted at the close of December 31, 2002, and the duty rate of “1.7%” is inserted in lieu thereof, effective with respect to goods entered, or withdrawn from warehouse for consumption, during the period from January 1, 2003, through December 31, 2003; and effective at the close of December 31, 2003, such duty rate is deleted along with the symbol “JO” in parentheses, and the symbol “JO,” is inserted in alphabetical sequence in the parenthetical expression set forth after the duty rate of “Free” effective with respect to goods entered, or withdrawn from warehouse for consumption, on or after January 1, 2004.

2. Effective with respect to goods entered, or withdrawn from warehouse for consumption, on or after December 17, 2001, for each of the HTS subheadings listed below, the expression “¢/kg” is deleted at each occurrence from the Rates of Duty 1-Special subcolumn for the duty rate followed by the symbol “JO” in parentheses and “¢/pr.” is inserted in lieu thereof; and such modifications shall likewise be made in the years 2003 through 2010, inclusive, for such special duty rate for goods of Jordan:

6402.19.50

6402.19.70

6402.30.70

6402.30.80

6402.91.70

6402.91.80

6402.99.70

6402.99.80

6404.11.70

6404.11.80

6404.19.70

6404.19.80

6404.10.30

6404.10.35

3. For HTS subheading 9608.10.00, for calendar year 2003, the duty rate “0.2¢ each +” followed by the symbol “JO” in parentheses is deleted from the Rates of Duty 1—Special subcolumn and “0.2¢ each + 1.3%” is inserted in lieu thereof.

Section F. Effective with respect to goods entered, or withdrawn from warehouse for consumption, on or after January 10, 2002:

1. Additional U.S. note 3 to chapter 27 is modified by deleting “2710.00.15” and by inserting in lieu thereof “2710.11.15”.

2. For subheading 2202.90.30, the Rates of Duty 1—Special subcolumn is modified by deleting “See 9906.22.04-9906.22.05 (MX)” and by inserting “2.12¢/liter (MX)” in lieu thereof.

3. Conforming changes:

(a). Subheadings 9906.22.04 and 9906.22.05 and the superior text immediately preceding such subheadings are deleted.

(b). On January 1 for each of the years indicated in the following dated columns, the rates of duty for subheading 2202.90.30 followed by the symbol “MX” in parentheses in the Rates of Duty 1—Special subcolumn are deleted and the following rates of duty are inserted in lieu thereof:

2003 | 2004 | 2005 | 2006 | 2007 | 2008
1.767¢/liter | 1.413¢/liter | 1.06¢/liter | 0.707¢/liter | 0.353¢/liter | Free

Section G. Effective with respect to goods entered, or withdrawn from warehouse for consumption, on or after August 6, 2002:

1. The article description of subheading 9819.11.12 is modified by deleting the word “in” immediately before “one or more such lesser developed countries”.

2. The article description of subheading 9820.11.18 is modified by inserting the phrase ”, or from components knit-to-shape in the United States from yarns wholly formed in the United States, or both” after the phrase “from yarns wholly formed in the United States”.

3. For each of the subheadings listed below, the Rates of Duty 1—Special subcolumn is modified by deleting the symbol ”, J” from the parenthetical expression also containing the symbol “E”:

4202.11.00 | 4202.22.45 | 4202.92.30 | 4602.10.29 | 6216.00.17
4202.12.20 | 4202.22.60 | 4202.92.45 | 6116.10.17 | 6216.00.19
4202.12.40 | 4202.22.80 | 4202.92.60 | 6116.10.44 | 6216.00.21
4202.12.60 | 4202.29.90 | 4202.92.90 | 6116.10.48 | 6216.00.24
4202.12.80 | 4202.31.60 | 4202.99.90 | 6116.10.55 | 6216.00.26
4202.19.00 | 4202.32.40 | 4203.10.40 | 6116.10.65 | 6216.00.38
4202.21.30 | 4202.32.80 | 4203.29.08 | 6116.92.64 | 6216.00.54
4202.21.60 | 4202.32.95 | 4203.29.18 | 6116.92.88
4202.21.90 | 4202.91.00 | 4602.10.21 | 6116.93.64
4202.22.15 | 4202.92.15 | 4602.10.22 | 6116.93.88
4202.22.40 | 4202.92.20 | 4602.10.25 | 6116.99.48

Section H. Effective with respect to goods entered, or withdrawn from warehouse for consumption, on or after October 31, 2002, the following HTS subheadings are each modified by deleting from the Rates of Duty 1—Special subcolumn the symbol “J+”:

4202.12.40 | 4202.32.40 | 4202.92.90 | 6116.93.88
4202.12.60 | 4202.32.80 | 6116.10.17 | 6116.99.48
4202.12.80 | 4202.32.95 | 6116.10.48 | 6216.00.17
4202.22.40 | 4202.92.15 | 6116.10.55 | 6216.00.21
4202.22.45 | 4202.92.20 | 6116.92.64 | 6216.00.24
4202.22.60 | 4202.92.30 | 6116.92.88 | 6216.00.38
4202.22.80 | 4202.92.60 | 6116.93.64 | 6216.00.54

Section I. Effective with respect to goods entered, or withdrawn from warehouse for consumption, on or after January 1, 2003:

1. Subheading 0709.90.91 is modified by deleting from the Rates of Duty 1—Special subcolumn the symbol “(MX)” and the immediately preceding phrase and by inserting in the parentheses following the “Free” duty rate in such subcolumn the symbol “MX” in alphabetical sequence.

2. For subheading 7111.00.00, the staged general tariff rate of “11%” previously proclaimed for the year 2003 is deleted from the Rates of Duty 1—-General subcolumn and the general rate of “10%” is inserted in lieu thereof for 2003.

3. Notwithstanding the provisions of Annex section G(6) to Pres. Proc. 6763, the Rates of Duty 1—Special subcolumn for subheading 0709.60.20 shall contain the special rate “See 9906.07.41-9906.07.43 (MX)” until the provisions of Annex section G(7) are scheduled to become effective.

Section J. Subheading 4013.90.10 is modified as follows:

1. Effective with respect to goods entered, or withdrawn from warehouse for consumption, on or after January 1, 1994, the article description for such subheading is modified by deleting “and 4012.20.20” and by inserting in lieu thereof “, 4012.20.15 and 4012.20.45”; and

2. Effective with respect to goods entered, or withdrawn from warehouse for consumption, on or after January 10, 2002, the article description for such subheading is modified by deleting “4011.91.10, 4011.99.10, 4012.10.20” and by inserting in lieu thereof “4011.61.00, 4011.92.00, 4012.19.20,”.

Section K. Effective with respect to articles entered, or withdrawn from warehouse for consumption, on or after the fifteenth day after the date of publication of this notice in the Federal Register, the HTS is modified as follows:

(1) General note 4(d) is modified by deleting the following subheadings and the country set out opposite such subheadings:

2208.90.05 Trinidad and Tobago

8412.10.00 Russia

8419.50.10 Malta

8419.60.10 Malta

(2) For the subheadings 8419.50.10 and 8419.60.10, the Rates of Duty 1—Special subcolumn is modified by deleting the symbol “A*” and inserting an “A” in lieu thereof.

[FR Doc. 02-33003 Filed 12-30-02; 8:45 am]

BILLING CODE 3190-01-P